Proclamation 7998 of April 5, 2006

National Former Prisoner of War Recognition Day, 2006

By the President of the United States of America

A Proclamation

In every generation, America's Armed Forces have answered the call to duty with dedication and valor. On National Former Prisoner of War Recognition Day, we pay tribute to the brave patriots of the United States military who endured captivity because of war. These heroes sacrificed their personal liberty to secure a future of freedom for all Americans.

While held as prisoners of war, American POWs have reflected the best of our country, acting with resourcefulness, bravery, and strength. Former POWs, such as Corporal Tibor “Ted” Rubin, USA, continue to inspire new generations to acts of courage and compassion. Liberated by U.S. forces from a Nazi concentration camp, Rubin enlisted in the Army after immigrating to the United States. He was captured and held as a POW during the Korean War even before he became an American citizen. His incredible bravery and service to his fellow POWs saved many lives and has left a legacy of hope and honor, and for his heroism, I had the great privilege to present him our Nation's highest military award, the Medal of Honor.

The sacrifices of those taken as prisoners of war have helped bring security to American citizens and freedom to the world. With determination and courage, America's former POWs, their fallen and missing comrades, and their families have demonstrated the true spirit of our Nation, and they will never be forgotten.

NOW, THEREFORE, I, GEORGE W. BUSH, President of the United States of America, by virtue of the authority vested in me by the Constitution and laws of the United States, do hereby proclaim April 9, 2006, as National Former Prisoner of War Recognition Day. I call upon the people of the United States to join me in remembering and honoring the sacrifices of all American prisoners of war. I call upon Federal, State, and local government officials and private organizations to observe this day with appropriate ceremonies and activities.

IN WITNESS WHEREOF, I have hereunto set my hand this fifth day of April, in the year of our Lord two thousand six, and of the Independence of the United States of America the two hundred and thirtieth.

B

[FR Doc. 06-3476

Filed 4-7-06; 8:47 am]

Billing code 3195-01-P